FEDERAL MARITIME COMMISSION

[Docket No. 25-14]

Way2Go Cargo Corp., Complainant v. Oak Way Cargo, LLC, Respondent.; Notice of Filing of Complaint and Assignment

Notice is given that a complaint has been filed with the Federal Maritime Commission (the “Commission” or “FMC”) by Way2Go Cargo Corp. (the “Complainant”) against Oak Way Cargo, LLC (the “Respondent”). Complainant states that the Commission has jurisdiction over the complaint pursuant to the Shipping Act of 1984, as amended, 46 U.S.C. 40301, et seq.

Complainant is a corporation organized under the laws of the state of Florida with its principal place of business in West Palm Beach, Florida.

Complainant identifies Respondent as a limited liability company organized under the laws of the state of Florida with its principal place of business located in Miami, Florida.

Complainant alleges that Respondent violated 46 U.S.C. 40901(a). Complainant alleges these violations arose from Respondent's unauthorized use of Complainant's FMC-issued license and regulatory credentials, diversion of Complainant's revenue into accounts inaccessible to Complainant, and other acts or omissions by Respondent.

An answer to the complaint must be filed with the Commission within 25 days after the date of service.

The full text of the complaint can be found in the Commission's electronic Reading Room at https://www2.fmc.gov/readingroom/proceeding/25-14/. This proceeding has been assigned to the Office of Administrative Law Judges. The initial decision of the presiding judge shall be issued by July 29, 2026, and the final decision of the Commission shall be issued by February 12, 2027.

(Authority: 46 U.S.C. 41301; 46 CFR 502.61(c))

Served: July 29, 2025.
Jennifer Everling,
Assistant Secretary.

[FR Doc. 2025-14602 Filed 7-31-25; 8:45 am]

BILLING CODE 6730-02-P